DEPARTMENT OF ENERGY

Federal Energy Regulatory Commission

[Docket No. EL02-1-000]

Golden Spread Electric Cooperative, Inc. v. Southwestern Public Service Company; Notice of Complaint

October 10, 2001.

Take notice that on October 9, 2001, Golden Spread Electric Cooperative, Inc. (Golden Spread) filed a Complaint against Southwestern Public Service Company (SPS) pursuant to Rule 206 of the Commission's Rules of practice and procedure, 18 CFR 385.206, and in compliance with the confidentiality requirements set forth in 18 CFR 388.112. Golden Spread claims that SPS has violated certain provisions of a Commitment and Dispatch Agreement by and between SPS and Golden Spread.

SPS has been served a copy of the Complaint.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before October 29, 2001. Protests will be considered by the Commission in determining the appropriate action to be taken, but will not serve to make protestants parties to the proceeding. Any person wishing to become a party must file a motion to intervene. Answers to the complaint shall also be due on or before October 29, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25927 Filed 10-15-01; 8:45 am]

BILLING CODE 6717-01-P